DEPARTMENT OF LABOR

Employment and Training Administration

Amended Certification Regarding Eligibility To Apply for Worker Adjustment Assistance

TA-W-71,054

Apria Healthcare Including On-Site Leased Workers from Corporate Employment Resources, Inc., D/B/A Corestaff and Leafstone, Foothill Ranch, California

TA-W-71,054A

Apria Healthcare Including On-Site Leased Workers from Corporate Employment Resources, Inc., D/B/A Corestaff and Leafstone, Indianapolis, Indiana

TA-W-71,054B

Apria Healthcare, Including On-Site Leased Workers from Corporate Employment Resources, Inc., D/B/A Corestaff and Leafstone, Mechesney Park, Illinois

TA-W-71,054C

Apria Healthcare, Including On-Site Leased Workers from Corporate Employment Resources, Inc., D/B/A Corestaff and Leafstone, Ultimate Staffing (Roth Staffing Companies) and Aerotek, Cromwell, Connecticut

TA-W-71,054D

Apria Healthcare, Including On-Site Leased Workers from Corporate Employment Resources, Inc., D/B/A Corestaff and Leafstone, Tampa, Florida

TA-W-71,054E

Apria Healthcare, Including On-Site Leased Workers from Corporate Employment Resources, Inc., D/B/A Corestaff and Leafstone, Minster, Ohio

TA-W-71,054F

Apria Healthcare, Including On-Site Leased Workers from Corporate Employment Resources, Inc., D/B/A Corestaff and Leafstone, St. Louis Missouri

TA-W-71,054G

Apria Healthcare, Including On-Site Leased Workers from Corporate Employment Resources, Inc., D/B/A Corestaff and Leafstone, San Diego, California

In accordance with Section 223 of the Trade Act of 1974, as amended (“Act”), 19 U.S.C. 2273, the Department of Labor issued a Certification of Eligibility to Apply for Worker Adjustment Assistance on November 23, 2009, applicable to workers of Apria Healthcare, including on-site leased workers from Corestaff, Cromwell, Connecticut. The workers are engaged in activities related to the supply of information technology and patient billing and collection services.

The Department's notice was published in the Federal Register on January 25, 2010 (75 FR 3938). The certification was amended on February 26, 2010 to include on-site leased workers from Ultimate Staffing (Roth Staffing Companies) and Aerotek (TA-W 71,054C). The notice of amended certifications was published in the Federal Register on March 12, 2010 (75 FR 11922).

At the request of the State agency, the Department reviewed the certification for workers of the subject firm. Information shows that workers leased from Corporate Employment Resources, Inc., d/b/a Corestaff and Leafstone, were employed on-site at the above-mentioned locations of Apria Healthcare. The Department has determined that these workers were sufficiently under the operational control of the subject firm to be considered leased workers.

Based on these findings, the Department is amending this certification to include workers leased from Corporate Employment Resources, Inc., d/b/a Corestaff and Leafstone, working on-site at the above mentioned locations of Apria Healthcare.

The amended notice applicable to TA-W-TA-W-71,054 and TA-W-71,054A-G are hereby issued as follows:

“All workers of Apria Healthcare, including on-site leased workers from Corporate Employment Resources, Inc., d/b/a Corestaff and Leafstone, Foothill Ranch, California (TA-W-71,054), Apria Healthcare, including on-site leased workers from Corporate Employment Resources, Inc., d/b/a/Corestaff and Leafstone, Indianapolis, Indiana (TA-W-71,054A), Apria Healthcare, including on-site leased workers from Corporate Employment Resources, Inc., d/b/a Corestaff and Leafstone, Machesney Park, Illinois (TA-W-71,054B), Apria Healthcare, including on-site leased workers from Corporate Employment Resources, Inc., d/b/a Corestaff and Leafstone, Ultimate Staffing (Roth Staffing Companies) and Aerotek, Cromwell, Connecticut (TA-W-71,054C), Apria Healthcare, including on-site leased workers from Corporate Employment Resources, Inc., d/b/a Corestaff and Leafstone, Tampa, Florida (TA-W-71,054D), Apria Healthcare, including on-site leased workers from Corporate Employment Resources, Inc., d/b/a Corestaff and Leafstone, Minster, Ohio (TA-W-71,054E), Apria Healthcare, including on-site leased workers from Corporate Employment Resources, Inc., d/b/a Corestaff and Leafstone, St. Louis, Missouri (TA-W-71,054F), and Apria Healthcare, including on-site leased workers from Corporate Employment Resources, Inc., d/b/a Corestaff and Leafstone, San Diego, California (TA-W-71,054G), who became totally or partially separated from employment on or after June 5, 2008, through November 23, 2011, and all workers in the group threatened with total or partial separation from employment on date of certification through two years from the date of certification, are eligible to apply for adjustment assistance under Chapter 2 of Title II of the Trade Act of 1974, as amended.”

Signed in Washington, DC, this 29th day of December 2010.
Del Min Amy Chen,
Certifying Officer, Office of Trade Adjustment Assistance.

[FR Doc. 2011-743 Filed 1-13-11; 8:45 am]

BILLING CODE 4510-FN-P